DEPARTMENT OF COMMERCE

International Trade Administration

U.S. Healthcare Trade Mission to Russia; Moscow and St. Petersburg, June 3-7, 2013; Correction

AGENCY: International Trade Administration, Department of Commerce.

ACTION: Notice; Amendment.

SUMMARY: The United States Department of Commerce, International Trade Administration, U.S. and Foreign Commercial Service published a document in the Federal Register of December 4, 2012 regarding the U.S. Healthcare Trade Mission to Russia June 3-7, 2013. The subject heading of the document incorrectly indicated the fees for the mission. All other information in the December 31, 2012 Notice, is correct.

FOR FURTHER INFORMATION CONTACT: Elnora Moye; elnora.moye@trade.gov, Tel: 202-482-4204.

Correction

In the Federal Register of December 31, 2012, in 77 FR 77032, on pages 77032-77035 (4 pages), in the section “Fees and Expenses” correct the subject heading of the notice to read: After a company has been selected to participate in the mission, a payment to the Department of Commerce in the form of a participation fee is required. The participation fee will be $4965 for large firms and $4722 for a small or medium-sized enterprise (SME) trade association, which will cover one representative.* ¹

¹ An SME is defined as a firm with 500 or fewer employees or that otherwise qualifies as a small business under SBA regulations (see http://www.sba.gov/services/contractingopportunities/sizestandardstopics/index.html).

Dated: December 31, 2012.
Elnora Moye,
Trade Program Assistant.

[FR Doc. 2013-02049 Filed 1-30-13; 8:45 am]

BILLING CODE 3510-DS-P